DEPARTMENT OF TRANSPORTATION

Federal Aviation Administration

14 CFR Part 39

[Docket No. FAA-2010-0701; Directorate Identifier 2010-NM-017-AD]

RIN 2120-AA64

Airworthiness Directives; Fokker Services B.V. Model F.28 Mark 0100 Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

Two reports have been received where, during inspection of the vertical stabilizer of F28 Mark 0100 aeroplanes, one of the bolts that connect the horizontal stabilizer control unit actuator with the dog-links was found broken (one on the nut side & one on the head side). In both occasions, the bolt shaft was still present in the connection and therefore the horizontal stabilizer function was not affected. If a single dog-link connection fails, the complete stabilizer load is taken up by the remaining dog-link connection. * * *

To address and correct this unsafe condition EASA [European Aviation Safety Agency] issued AD 2007-0287 [corresponding FAA AD 2008-22-14] that required a one-time inspection of the affected bolts, * * * and replacement of failed bolts with serviceable parts. EASA AD 2007-0287 also required the installation of a tie wrap through the lower bolts of the horizontal stabilizer control unit, to keep the bolt in place in the event of a bolt head failure.

Recent examination revealed that the bolts failed due to stress corrosion, attributed to excessive bolt torque. Investigation of the recently failed bolts showed that the modification as required by AD 2007-0287 is not adequate.

* * * * *

Loss of horizontal stabilizer function could result in partial loss of control of the airplane. The proposed AD would require actions that are intended to address the unsafe condition described in the MCAI.

DATES: We must receive comments on this proposed AD by September 10, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For the Fokker service information identified in this proposed AD, contact Fokker Services B.V., Technical Services Dept., P.O. Box 231, 2150 AE Nieuw-Vennep, the Netherlands; telephone +31 (0)252-627-350; fax +31 (0)252-627-211; e-mail technicalservices.fokkerservices@stork.com; Internet http://www.myfokkerfleet.com.

For the Goodrich service information identified in this proposed AD, contact Goodrich Corporation, Landing Gear, 1400 South Service Road, West Oakville L6L 5Y7, Ontario, Canada; telephone 905-825-1568; e-mail jean.breed@goodrich.com; Internet http://www.goodrich.com/TechPubs.

You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2010-0701; Directorate Identifier 2010-NM-017-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

On October 9, 2008, we issued AD 2008-22-14, Amendment 39-15710 (73 FR 70261, November 20, 2008). That AD required actions intended to address an unsafe condition on the products listed above.

Since we issued AD 2008-22-14, we have received information that the actions required in AD 2008-22-14 are insufficient to prevent the unsafe condition from occurring. The European Aviation Safety Agency (EASA), which is the Technical Agent for the Member States of the European Community, has issued EASA Airworthiness Directive 2009-0216, dated October 7, 2009 (referred to after this as “the MCAI”), to correct an unsafe condition for the specified products. The MCAI states:

Two reports have been received where, during inspection of the vertical stabilizer of F28 Mark 0100 aeroplanes, one of the bolts that connect the horizontal stabilizer control unit actuator with the dog-links was found broken (one on the nut side & one on the head side). In both occasions, the bolt shaft was still present in the connection and therefore the horizontal stabilizer function was not affected. If a single dog-link connection fails, the complete stabilizer load is taken up by the remaining dog-link connection. Any failed connection should be detected and corrected at the next scheduled inspection.

To address and correct this unsafe condition EASA issued AD 2007-0287 [corresponding FAA AD 2008-22-14] that required a one-time inspection of the affected bolts, Part Number (P/N) 23233-1, and replacement of failed bolts with serviceable parts. EASA AD 2007-0287 also required the installation of a tie wrap through the lower bolts of the horizontal stabilizer control unit, to keep the bolt in place in the event of a bolt head failure.

Recent examination revealed that the bolts failed due to stress corrosion, attributed to excessive bolt torque. Investigation of the recently failed bolts showed that the modification as required by AD 2007-0287 is not adequate.

To address the stress corrosion, the manufacturer of the bolt, Goodrich, has introduced a bolt with an improved corrosion protection, P/N 23233-3, through Service Bulletin 23100-27-29.

For the reasons described above, this EASA AD retains the requirements of AD 2007-0287, which is superseded, and adds the requirement to replace the affected P/N 23233-1 bolts with improved bolts. Concurrently, the tie-wrap must be removed.

Loss of horizontal stabilizer function could result in partial loss of control of the airplane. You may obtain further information by examining the MCAI in the AD docket.

Relevant Service Information

Fokker Services B.V. has issued Fokker Service Bulletin SBF100-27-092, dated April 27, 2009. Goodrich has issued Service Bulletin 23100-27-29, dated November 14, 2008. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 4 products of U.S. registry.

The actions that are required by AD 2008-22-14 and retained in this proposed AD take about 3 work-hours per product, at an average labor rate of $85 per work-hour. Based on these figures, the estimated cost of the currently required actions is $255 per product.

We estimate that it would take about 7 work-hours per product to comply with the new basic requirements of this proposed AD. The average labor rate is $85 per work-hour. Required parts would cost about $1,550 per product. Where the service information lists required parts costs that are covered under warranty, we have assumed that there will be no charge for these costs. As we do not control warranty coverage for affected parties, some parties may incur costs higher than estimated here. Based on these figures, we estimate the cost of the proposed AD on U.S. operators to be $8,580, or $2,145 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15710 (73 FR 70261, November 20, 2008) and adding the following new AD:

Fokker Services B.V.: Docket No. FAA-2010-0701; Directorate Identifier 2010-NM-017-AD.

Comments Due Date

(a) We must receive comments by September 10, 2010.

Affected ADs

(b) This AD supersedes AD 2008-22-14, Amendment 39-15710.

Applicability

(c) This AD applies to Fokker Services B.V. Model F.28 Mark 0100 airplanes, certificated in any category, all serial numbers.

Subject

(d) Air Transport Association (ATA) of America Code 27: Flight Controls.

Reason

(e) The mandatory continuing airworthiness information (MCAI) states:

Two reports have been received where, during inspection of the vertical stabilizer of F28 Mark 0100 aeroplanes, one of the bolts that connect the horizontal stabilizer control unit actuator with the dog-links was found broken (one on the nut side & one on the head side). In both occasions, the bolt shaft was still present in the connection and therefore the horizontal stabilizer function was not affected. If a single dog-link connection fails, the complete stabilizer load is taken up by the remaining dog-link connection. * * *

To address and correct this unsafe condition EASA [European Aviation Safety Agency] issued AD 2007-0287 [corresponding FAA AD 2008-22-14] that required a one-time inspection of the affected bolts, * * * and replacement of failed bolts with serviceable parts. EASA AD 2007-0287 also required the installation of a tie wrap through the lower bolts of the horizontal stabilizer control unit, to keep the bolt in place in the event of a bolt head failure.

Recent examination revealed that the bolts failed due to stress corrosion, attributed to excessive bolt torque. Investigation of the recently failed bolts showed that the modification as required by AD 2007-0287 is not adequate.

* * * * *

Loss of horizontal stabilizer function could result in partial loss of control of the airplane.

Compliance

(f) You are responsible for having the actions required by this AD performed within the compliance times specified, unless the actions have already been done.

Restatement of Requirements of AD 2008-22-14

Actions and Compliance

(g) Unless already done, within 6 months after December 26, 2008 (the effective date of AD 2008-22-14), do the following actions.

(1) Perform a one-time inspection (integrity check) for failure of the lower bolts of the stabilizer control unit dog-links, in accordance with the Accomplishment Instructions of Fokker Service Bulletin SBF100-27-091, dated August 31, 2007. If a failed bolt is found, before further flight, replace the bolt with a serviceable bolt in accordance with the Accomplishment Instructions of the service bulletin.

(2) Install a tie-wrap through the lower bolts of the stabilizer control unit, in accordance with the Accomplishment Instructions of Fokker Service Bulletin SBF100-27-091, dated August 31, 2007.

New Requirements of This AD: Actions

(h) Within 30 months after the effective date of this AD, do the actions specified in paragraphs (h)(1) and (h)(2) of this AD concurrently. Accomplishing the actions of both paragraphs (h)(1) and (h)(2) of this AD terminates the actions required by paragraph (g) of this AD.

(1) Remove the tie-wrap, P/N MS3367-2-9, from the lower bolts of the horizontal stabilizer control unit, in accordance with the Accomplishment Instructions of Fokker Service Bulletin SBF100-27-092, dated April 27, 2009.

(2) Remove the lower bolts, P/N 23233-1, of the horizontal stabilizer control unit and install bolts, P/N 23233-3, in accordance with the Accomplishment Instructions of Goodrich Service Bulletin 23100-27-29, dated November 14, 2008.

(i) After accomplishing the requirements of paragraph (h) of this AD, do not install a bolt having P/N 23233-1 or a tie-wrap having P/N MS3367-2-9.

FAA AD Differences

Note 1: This AD differs from the MCAI and/or service information as follows: No difference.

Other FAA AD Provisions

(j) The following provisions also apply to this AD:

(1) Alternative Methods of Compliance (AMOCs): The Manager, International Branch, ANM-116, Transport Airplane Directorate, FAA, has the authority to approve AMOCs for this AD, if requested using the procedures found in 14 CFR 39.19. Send information to Attn: Tom Rodriguez, Aerospace Engineer, International Branch, ANM-116, Transport Airplane Directorate, FAA, 1601 Lind Avenue, SW., Renton, Washington 98057-3356; telephone (425) 227-1137; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(k) Refer to MCAI EASA Airworthiness Directive 2009-0216, dated October 7, 2009; Fokker Service Bulletin SBF100-27-091, dated August 31, 2007; Fokker Service Bulletin SBF100-27-092, dated April 27, 2009; and Goodrich Service Bulletin 23100-27-29, dated November 14, 2008; for related information.

Issued in Renton, Washington, on July 21, 2010.
Jeffrey E. Duven,
Acting Manager, Transport Airplane Directorate, Aircraft Certification Service.

[FR Doc. 2010-18399 Filed 7-26-10; 8:45 am]

BILLING CODE 4910-13-P